DEPARTMENT OF COMMERCE

Foreign-Trade Zones Board

[Docket 30-2000]

Proposed Foreign-Trade Zone—City of Eureka (Humboldt County), California; Application and Public Hearing

An application has been submitted to the Foreign-Trade Zones (FTZ) Board (the Board) by the City of Eureka, California, to establish a general-purpose foreign-trade zone at sites in Eureka, California, within/adjacent to the Eureka Customs port of entry. The application was submitted pursuant to the provisions of the FTZ Act, as amended (19 U.S.C. 81a-81u), and the regulations of the Board (15 CFR part 400). It was formally filed on June 16, 2000. The applicant is authorized to make the proposal under section 6302 of the California Code.

The proposed zone would consist of 4 sites (722 acres) in the Greater Humboldt County Area: Site 1 (7 acres)—Dock B Area-Eureka Waterfront (owned by the City of Eureka), 700 & 832 West Waterfront, Eureka; Site 2 (387 acres)—the Samoa Peninsula complex owned by the City of Eureka and the Humboldt Bay Harbor Recreation and Conservation District (Harbor District): Site 2a (321 acres)—City of Eureka's 450-acre Skypark, 3500 New Navy Base Road, Samoa; and, Site 2b (66 acres)—Harbor District docks and warehouse facility, on the Humboldt Bay, Samoa; Site 3 (81 acres)—Fields Landing, owned by Stanwood Murphy and the Harbor District: Site 3a (62 acres)—Humboldt Bay Forest Products docks and industrial site,110 C Street, Field's Landing; and, Site 3b (19 acres)—Harbor District dock, #1 Yard Road, Foot of Depot Road, Fields Landing; and, Site 4 (247 acres)—Eureka/Arcata Airport (owned by Humboldt County), adjacent to U.S. Highway 101. Site 1 is part of the Westside Industrial Area in the City of Eureka which became a part of the State of California's Enterprise Zone. Site 2a is within the City of Eureka's Enterprise Zone.

The application indicates a need for foreign-trade zone services in the Greater Humboldt County area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on July 26, 2000, 9:00 a.m., at the Eureka Public Marina, Number 1, Marina Way, Eureka, California 95501.

Public comment on the application is invited from interested parties. Submissions (original and 3 copies) shall be addressed to the Board's Executive Secretary at the address below. The closing period for their receipt is August 22, 2000. Rebuttal comments in response to material submitted during the foregoing period may be submitted during the subsequent 15-day period (to September 6, 2000).

A copy of the application and accompanying exhibits will be available during this time for public inspection at the following locations:

Office of the City Manager, City of Eureka 531 K Street, Room 209, Eureka, CA 95501

Office of the Executive Secretary, Foreign-Trade Zones Board, Room 4008, U.S. Department of Commerce, 14th and Pennsylvania Avenue, NW, Washington, DC 20230

Dated: June 19, 2000.
Pierre Duy,
Acting Executive Secretary.

[FR Doc. 00-15965 Filed 6-22-00; 8:45 am]

BILLING CODE 3510-DS-P